DEPARTMENT OF THE INTERIOR

National Park Service

[NPS-WASO-NAGPRA-NPS0024472; PPWOCRADN0-PCU00RP14.R50000]

Notice of Inventory Completion: Grand Rapids Public Museum, Grand Rapids, MI

AGENCY: National Park Service, Interior.

ACTION: Notice.

SUMMARY: The Grand Rapids Public Museum has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Grand Rapids Public Museum. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Grand Rapids Public Museum at the address in this notice by March 1, 2018.

ADDRESSES: Andrea Melvin, Grand Rapids Public Museum, 272 Pearl Street NW, Grand Rapids, MI 49504, telephone (616) 929-1700, email amelvin@grpm.org.

SUPPLEMENTARY INFORMATION: Notice is here given in accordance with the Native American Graves Protection and Repatriation Act (NAGPRA), 25 U.S.C. 3003, of the completion of an inventory of human remains under the control of the Grand Rapids Public Museum, Grand Rapids, MI. The human remains were removed from Barry County, MO, and an unknown location in the State of Arkansas.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Grand Rapids Public Museum professional staff in consultation with representatives of The Osage Nation (previously listed as the Osage Tribe).

History and Description of the Remains

At an unknown date, human remains representing, at minimum, one individual were removed from an unknown location in the State of Arkansas. The human remains were acquired by the Grand Rapids Public Museum on September 10, 1974, as a bequest from the Ruth Herrick Estate (Collection T-420 (B24)). No known individual was identified. No associated funerary objects are present.

At an unknown date, human remains representing, at minimum, one individual were removed from an unidentified site in Roaring River Cairn in Barry County, MO. The human remains were acquired by the Grand Rapids Public Museum on September 10, 1974, as a bequest from the Ruth Herrick Estate (Collection T-420 (B24)). No known individual was identified. No associated funerary objects are present.

The age of the human remains cannot be determined. Museum records indicate the human remains were originally bought from a dealer with the understanding that they were from an archeological excavation conducted prior to 1965. Prehistoric objects were also part of the Herrick bequest, but the association between the artifacts and these human remains is not established. A determination of Osage cultural affiliation is based on museum records, consultation, geographic location, and archeological information.

Determinations Made by the Grand Rapids Public Museum

Officials of the Grand Rapids Public Museum have determined that:

• Pursuant to 25 U.S.C. 3001(9), the human remains described in this notice represent the physical remains of two individuals of Native American ancestry.

• Pursuant to 25 U.S.C. 3001(2), there is a relationship of shared group identity that can be reasonably traced between the Native American human remains and The Osage Nation (previously listed as the Osage Tribe).

Additional Requestors and Disposition

Lineal descendants or representatives of any Indian Tribe or Native Hawaiian organization not identified in this notice that wish to request transfer of control of these human remains should submit a written request with information in support of the request to Andrea Melvin, Grand Rapids Public Museum, 272 Pearl Street NW, Grand Rapids, MI 49506, telephone (616) 929-1700, email amelvin@grpm.org, by March 1, 2018. After that date, if no additional requestors have come forward, transfer of control of the human remains to the Osage Nation (previously listed as the Osage Tribe) may proceed.

The Grand Rapids Public Museum is responsible for notifying the Osage Nation (previously listed as the Osage Tribe) that this notice has been published.

Dated: October 13, 2017.
Melanie O'Brien,
Manager, National NAGPRA Program.

Editorial Note: The Office of the Federal Register received this document on January 25, 2018.

[FR Doc. 2018-01713 Filed 1-29-18; 8:45 am]

BILLING CODE 4312-52-P